DEPARTMENT OF AGRICULTURE

Submission for OMB Review; Comment Request

April 23, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Rural Development Consolidated Programs—ARRA Funding.

OMB Control Number: 0575-0194.

Summary of Collection: The Rural Development (RD) agency programs were awarded funding under the American Recovery and Reinvestment Act of 2009 (Recovery Act). The agencies provide grants, loans and loan guarantee assistance to rural residents, rural communities, and rural utility systems. Rural Housing Service, Rural Utilities Service and Rural Business Service are authorized under the Consolidated Farm and Rural Development Act, Sections 306; 1926 and 310B and the Housing Act of 1949, as amended, to collect this information.

Need and Use of the Information: The eligibility criterion for each program differs widely. RD will collect information from the impacted programs, “Water and Waste Loan and Grant Program;” “Rural Business Enterprise Grants and Television Demonstration Grants;” “Community Facilities Loans;” “Community Facilities Grant Program;” “Fire and Rescue Loans;” “Direct Single Family Housing Loan and Grant Program;” and “Rural Housing Loans” that is currently approved under each program's individual information collection. In addition, under Section 1512 of the Recovery Act, recipients are required to complete projects or activities which are funded under the Recovery Act and to report on use of funds provided through this award. Failure to collect proper information could result in improper determinations of eligibility, improper use of funds, and/or unsound loans.

Description of Respondents: Individuals or Households; Business or other-for-profit; Not-for-profit institutions; State, Local, or Tribal Government.

Number of Respondents: 32,955.

Frequency of Responses: Recordkeeping; Reporting: Annually.

Total Burden Hours: 435,666.

Charlene Parker,
Departmental Information Collection Clearance Officer.

[FR Doc. 2010-9892 Filed 4-28-10; 8:45 am]

BILLING CODE 3410-XT-P